DEPARTMENT OF COMMERCE

Bureau of Industry and Security

15 CFR Part 744

[Docket No. 241010-0270]

RIN 0694-AJ80

Addition of Entities, Revision of an Entry, and Removal of Entries on the Entity List

AGENCY: Bureau of Industry and Security, Department of Commerce.

ACTION: Final rule.

SUMMARY: In this final rule, the Bureau of Industry and Security (BIS) amends the Export Administration Regulations (EAR) by adding 26 entries to the Entity List, under the destinations of the People's Republic of China (China), Egypt, Pakistan, and the United Arab Emirates (UAE) and modifies one existing entry under the destination of China. This rule also removes two entities from the entity list: one entity listed under the destination of China, and a second entity listed under the destinations of Canada, India, Japan, Malaysia, Sweden and the UAE.

DATES: This rule is effective October 23, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions, if applicable, is described in the relevant Federal Register document that added the entity to the Entity List. BIS places entities on the Entity List pursuant to parts 744 (Control Policy: End-User and End-Use Based) and 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

The Export Control Reform Act (ECRA) (codified, as amended, at 50 U.S.C. 4801-4852) provides the legal basis for BIS's principal authorities and serves as the authority under which BIS issues this rule. Section 1753(a) of ECRA (50 U.S.C. 4812) authorizes the regulation of “(1) the export, reexport, and in-country transfer of items subject to the jurisdiction of the United States, whether by United States persons or by foreign persons.” Section 1754(a) of ECRA (50 U.S.C. 4813) authorizes, inter alia, establishing and maintaining a list of foreign persons and end-uses that are determined to be a threat to the national security and foreign policy of the United States pursuant to the policy set forth in Section 1752(2)(A) of ECRA, and restricting exports, reexports, and in-country transfers of any controlled items to any foreign person or end-use so listed. The changes being made in this final rule are needed for the regulation of exports, reexports, and transfers (in-country) of items subject to U.S. jurisdiction to foreign persons that have been determined to be involved in activities that are contrary to the national security and foreign policy interests of the United States.

Entity List Decisions

Additions to the Entity List

The ERC determined to add Beijing Moreget Creative Technology Co., Ltd., under the destination of China, to the Entity List. This entity is being added for acquiring and attempting to acquire U.S.-origin items related to aviation simulation technology in support of China's military modernization. In addition, the ERC determined to add Shenzhen Dragonfly Supply Chain Co., Ltd. (Shenzhen Dragonfly) and Small Leopard Electronics Co., Limited (Small Leopard), under the destination of China, to the Entity List. Small Leopard Electronics was party to a transaction with an end user now understood to be a supplier of goods to an Iranian procurement network. Small Leopard, along with the closely connected company Shenzhen Dragonfly, is being added because Small Leopard repeatedly engaged in dilatory and evasive conduct in providing information to the U.S. Department of Commerce during end-use checks, including after being added to the Unverified List. These activities are contrary to U.S. national security and foreign policy interests under § 744.11 of the EAR.

The ERC also determined to add Detail Technology (HK) Limited, L-Tong Electronic Technology Company, and Shenzhen Jiachuang Weiye Technology Company, Ltd., all under the destination of China, to the Entity List. These additions are being made on the basis of actions and activities that are contrary to the national security and foreign policy interests of the United States. Specifically, these companies have procured and/or attempted to procure U.S-origin items for Iran's weapons of mass destruction (WMD) and unmanned aerial vehicle (UAV) programs. This activity is contrary to the national security and foreign policy interests of the United States under § 744.11 of the EAR.

The ERC determined to add Ansar Mahmood, Combine Communications, Engineering Aura, Haris M. Fazal, Mansoor Ahmed Malik, Rehman Feroze, Technologic Enterprises, United Institute of Technical Professional Education, and Usman Feroze, all under the destination of Pakistan, to the Entity List. These entities are added pursuant to § 744.11 of the EAR for engaging in activities contrary to the national security and foreign policy interests of the United States. Specifically, these entities are acting as front companies and procurement agents for Advanced Engineering Research Organization (AERO), a Pakistan-based company first added to the BIS Entity List in 2014 (79 FR 56003, September 18, 2014). Since 2010, AERO has utilized intermediaries and front companies to procure U.S.-origin items by disguising the end uses and end users of the items from U.S. exporters, thereby circumventing BIS licensing requirements. These end users include Pakistan's Air Weapons Complex, a Pakistani government entity on the Entity List since 2016 (81 FR 90714, December 15, 2016), responsible for Pakistan's cruise missile and strategic UAV programs. This activity is contrary to the national security and foreign policy interests of the United States under § 744.11 of the EAR.

In addition, the ERC determined to add Asia Pacific Trade Hub, Innovative Equipment (Private) Limited, Konsult Tek (Pvt) Ltd, Marriala Consultants, Metal Paint Products (Pvt) Ltd, Rockside Enterprise, and Zaheer & Sons, all under the destination of Pakistan, to the Entity List. These additions are being made for their contributions to Pakistan's ballistic missile program. This activity is contrary to the national security and foreign policy interests of the United States under § 744.11 of the EAR.

The ERC determined to add Steel Design LLC to the Entity List under the destination of Egypt, and Ahmed Abdellatif, Ayman Elgindy, and Steel Design FZE, under the destination of the UAE for acquiring and attempting to acquire U.S.-origin items, in particular civil aircraft parts, on behalf of a Russian buyer and attempting to evade the sanctions and export controls imposed following Russia's invasion of Ukraine in February 2022. These activities are contrary to U.S. national security and foreign policy interests under § 744.11(b) of the EAR.

For these 26 entities, a license is required for all items subject to the EAR. License applications will be reviewed under a presumption of denial. This final rule adds the following 26 entities to the Entity List and includes, where appropriate, aliases:

China

• Beijing Moreget Creative Technology Co., Ltd.;

• Detail Technology (НК) Limited;

• L-Tong Electronic Technology Company;

• Shenzhen Dragonfly Supply Chain Co., Ltd.;

• Shenzhen Jiachuang Weiye Technology Company, Ltd.; and

• Small Leopard Electronics Co., Limited

Egypt

• Steel Design LLC

Pakistan

• Ansar Mahmood;

• Asia Pacific Trade Hub;

• Combine Communications;

• Engineering Aura;

• Haris M. Fazal;

• Mansoor Ahmed Malik;

• Metal Paint Products (Pvt) Ltd;

• Innovative Equipment (Private) Limited;

• Konsult Tek (Pvt) Ltd;

• Marriala Consultants;

• Rehman Feroze;

• Rockside Enterprise;

• Technologic Enterprises;

• United Institute of Technical Professional Education;

• Usman Feroze; and

• Zaheer & Sons

United Arab Emirates

• Ahmed Abdellatif

• Ayman Elgindy; and

• Steel Design FZE

Modification of One Existing Entry on the Entity List

This final rule implements the decision of the ERC to modify one existing entry on the Entity List, the entry for Chengdu Poyotencon Technology, a Chinese entity, by adding one address for a total of two addresses.

Removal of Two Entries on the Entity List

The ERC determined to remove Sandvine Incorporated from the Entity List, under the destinations of Canada, India, Japan, Malaysia, Sweden, and the UAE, based on the information BIS received pursuant to § 744.16 of the EAR and the review the ERC conducted in accordance with procedures described in supplement no. 5 to part 744 of the EAR. The ERC also determined to remove Hefei Bitland Information Technology Co. Ltd., under the destination of China, from the Entity List, based on information BIS received pursuant to § 744.16 of the EAR and the review the ERC conducted in accordance with procedures described in supplement no. 5 to part 744 of the EAR.

Savings Clause

For the changes being made in this final rule, shipments of items removed from eligibility for a License Exception or export, reexport, or transfer (in-country) without a license (NLR) as a result of this regulatory action that were en route aboard a carrier to a port of export, reexport, or transfer (in-country), on October 23, 2024, pursuant to actual orders for export, reexport, or transfer (in-country) to or within a foreign destination, may proceed to that destination under the previous eligibility for a License Exception or export, reexport, or transfer (in-country) without a license (NLR) before November 22, 2024. Any such items not actually exported, reexported or transferred (in-country) before midnight, on November 22, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end-uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866.

2. Notwithstanding any other provision of law, no person is required to respond to, or will be subject to a penalty for failure to comply with, a collection of information, subject to the requirements of the Paperwork Reduction Act of 1995 (PRA) (44 U.S.C. 3501 et seq.), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at: https://www.reginfo.gov/public/do/PRAMain.

3. This rule does not contain policies with federalism implications as that term is defined in Executive Order 13132.

4. Pursuant to Section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—END-USE AND END-USER CONTROLS

1. The authority citation for part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 8, 2022, 87 FR 68015, 3 CFR, 2022 Comp., p. 563; Notice of September 18, 2024, 89 FR 77011 (September 20, 2024).

2. Supplement no. 4 is amended by:

a. Under CANADA, removing the entry for “Sandvine Incorporated;”

b. Under CHINA, PEOPLE'S REPUBLIC OF,

i. Adding an entry in alphabetical order for “Beijing Moreget Creative Technology Co., Ltd.;”

ii. Revising the entry for “Chengdu Poyotencon Technology;”

iii. Adding, in alphabetical order, an entry for “Detail Technology (HK) Limited;”

iv. Removing the entry for “Hefei Bitland Information Technology Co. Ltd.;” and

v. Adding entries, in alphabetical order for “L-Tong Electronic Technology Company;” “Shenzhen Dragonfly Supply Chain Co., Ltd.;” “Shenzhen Jiachuang Weiye Technology Company, Ltd.;” and “Small Leopard Electronics Co., Limited;”

c. Under EGYPT, adding an entry in alphabetical order for “Steel Design LLC;”

d. Under INDIA, removing the entry for “Sandvine Incorporated;”

e. Under JAPAN, removing the entry for “Sandvine Incorporated;”

f. Under MALAYSIA, removing the entry for “Sandvine Incorporated;”

g. Under PAKISTAN, adding entries in alphabetical order for “Ansar Mahmood;” Asia Pacific Trade Hub;” “Combine Communications;” “Engineering Aura;” “Haris M. Fazal;” “Mansoor Ahmed Malik;” “Metal Paint Products (Pvt) Ltd;” “Innovative Equipment (Private) Limited;” “Konsult Tek (Pvt) Ltd;” “Marriala Consultants;” “Rehman Feroze;” “Rockside Enterprise;” “Technologic Enterprises;” “United Institute of Technical Professional Education;” “Usman Feroze;” and “Zaheer & Sons;”

h. Under SWEDEN, removing the entry for “Sandvine Incorporated;” and

i. Under UNITED ARAB EMIRATES,

i. Adding entries in alphabetical order for “Ahmed Abdellatif;” “Ayman Elgindy;”

ii. Removing the entry for “Sandvine Incorporated;” and

iii. Adding in alphabetical order, an entry for “Steel Design FZE.”

The revision and additions read as follows:

Supplement No. 4 to Part 744—Entity List

* * * * *

Country | Entity | License requirement | License review policy | Federal Register citation
* * * * * * *
CHINA, PEOPLES REPUBLIC OF | * * * * * *
| Beijing Moreget Creative Technology Co., Ltd., a.k.a., the following three aliases: —Beijing Mojie Innovation Technology Co., Ltd.; —Beijing Moreget Innovation Technology; and —Beijing Moji Innovation Technology Co., Ltd. | For all items subject to the EAR. (See § 744.11 of the EAR) | Presumption of denial | 89 FR [INSERT FR PAGE NUMBER]; 10/23/2024.
| Room 101, Building 6, Yingfu Road, Beijing, China; and No. 1, Yard 30, Wuquan South Road, Fengtai District, Beijing; and Room 101, Floor 1, Building 14, Baosheng South Road, Beijing, China; and Room 702, Tower B, Austrian International Center, Beijing, China; and Haige Industrial Park, Yard 30, South Wuquan Road, Beijing, China.
| * * * * * *
| Chengdu Poyotencon Technology, No. 175, Shanbanqiao Road, Chenghua District, Chengdu City, Sichuan Province, China; and Number 508 1-4-1302, East Second Section of Second Ring Road, Chenghua District, Chengdu City, Sichuan Province, China. | For all items subject to the EAR (See § 744.11 of the EAR) | Presumption of denial | 88 FR 38741, 06/14/23. 89 FR [INSERT FR PAGE NUMBER]; 10/23/2024.
| * * * * * *
| Detail Technology (HK) Limited, a.k.a., the following four aliases: —Ditai Technology; —Shenzhen Ditai Technology Со., Ltd.; —Detail Technology Global Ltd; and —Ditai Keji Xianggang Youxian Gongsi. | For all items subject to the EAR (See § 744.11 of the EAR) | Presumption of denial | 89 FR [INSERT FR PAGE NUMBER]; 10/23/2024.
| Room 2309, 23/F, Но King Commercial Center, 16 Fayuen Street, Mongkok Kowloon, Hong Kong; and Room F, 11th Floor, Hainiog Plaza, Langhua District, Shenzhen, China; and Room F, Floor 11, Longhua District, Shenzhen City, GuangDong, Province, China; and 10F, Kras Asia Industrial Building, No. 79 Hung to Road, Kwun Tong, Kowloon, Hong Kong.
| * * * * * *
| L-Tong Electronic Technology Company, Room 411, Yue Peng Building, Jiabin Road, Luohu District, Shenzhen, China; and Room 205, 2/F, Winful Center, 30 Shing Yip Street, Kwun Tong, Kowloon, Hong Kong. | For all items subject to the EAR. (See § 744.11 of the EAR) | Presumption of denial | 89 FR [INSERT FR PAGE NUMBER]; 10/23/2024.
| * * * * * *
| Shenzhen Dragonfly Supply Chain Co., Ltd.; a.k.a., the following two aliases: —Shenzhen Small Leopard Electronic Co., Ltd.; and —Shenzhen Xiaobao Electronics Co., Ltd. | For all items subject to the EAR. (See § 744.11 of the EAR) | Presumption of denial | 89 FR [INSERT FR PAGE NUMBER]; 10/23/2024.
| A-606, Languang Science and Technology Building, No. 7, Songpingshan Xinxi Road, Nanshan Street, Nanshan District, Shenzhen, China; and 7, 803, Building A7, Chuangzhi Cloud City, Nanshan District, Shenzhen, China; and Building 14, South of the Third Floor, Fuqingshan, Tangtou Third Industrial Zone, Bao'an District, Shenzhen, China; and Building 3, 5th Floor Factory Building, Hengtongfa Industrial Zone, Tangtou Industrial Park, Tangtou Community, Shiyan Street, Baoan District, Shenzhen City, China.
| * * * * * *
| Shenzhen Jiachuang Weiye Technology Company, Ltd., a.k.a. the following one alias: —JCWYIC. l9D, Block D, Huaqiang Plaza, Huaqiang North Road, Futian District, Shenzhen, Guangdong, China; and 518 West Building, Feiyada Building, Zhenhua Road, Futian District, Shenzhen, China; and Room 2702, Building A, Jiahe Huaqiang Building, Shennan Middle Road, Futian District, Shenzhen, China. | For all items subject to the EAR. (See § 744.11 of the EAR) | Presumption of denial | 89 FR [INSERT FR PAGE NUMBER]; 10/23/2024.
| * * * * * *
| Small Leopard Electronics Co., Limited, a.k.a., the following alias: —Xiaobao Electronics Co., Ltd. Flat/Rm 7022 BLK D 7/F Tak Wing Ind Building 3, Tsun Wen Road Tuen Mun, New Territories, Hong Kong; and Flat/Rm S, 4/F, Kwun, Tong Ind Centre Phase 2, 460-470, Kwun Tong Road, Kwun Tong, Kowloon, Hong Kong. | For all items subject to the EAR. (See § 744.11 of the EAR) | Presumption of denial | 89 FR [INSERT FR PAGE NUMBER]; 10/23/2024.
* * * * * * *
EGYPT | * * * * * *
| Steel Design LLC, a.k.a., the following two aliases: —TRME; and —Turbo Resources. 1 Zahra El Maadi El Morshedy Building, Tower A, Cairo, Egypt; and Rehana Tower A1 Elmorshedy, Zahra El Maadi, Cairo, Egypt.; and Memaar El Morshedy, Rayhanah Residence Zahraa Maadi, Cairo, Egypt | For all items subject to the EAR. (See § 744.11 of the EAR) | Presumption of denial | 89 FR [INSERT FR PAGE NUMBER]; 10/23/2024.
| * * * * * *
PAKISTAN | * * * * * *
| Ansar Mahmood, Suite No. 2, 4th Fl., Imtiaz Center, Main Market Gulberg, Lahore, Pakistan. | For all items subject to the EAR. (See § 744.11 of the EAR) | Presumption of denial | 89 FR [INSERT FR PAGE NUMBER]; 10/23/2024.
| * * * * * *
| Asia Pacific Trade Hub, a.k.a., the following one alias: —M/S Asia Pacific Trade Hub PVT. LTD. No. 813, 8th Floor, Al-Hafeez Heights, Ghalib Road, Gulber-III, Lahore, Pakistan. | For all items subject to the EAR. (See § 744.11 of the EAR) | Presumption of denial | 89 FR [INSERT FR PAGE NUMBER]; 10/23/2024.
| * * * * * *
| Combine Communications, Suite No. 2, 4th Fl., Imtiaz Center, Main Market, Gulberg, Lahore, Pakistan. | For all items subject to the EAR. (See § 744.11 of the EAR) | Presumption of denial | 89 FR [INSERT FR PAGE NUMBER]; 10/23/2024.
| * * * * * *
| Engineering Aura, Suite No. 28, Al-Behbood Plaza, 2nd Floor, The Mall, Wah, Punjab, Rawalpindi, 47040 Pakistan. | For all items subject to the EAR. (See § 744.11 of the EAR) | Presumption of denial | 89 FR [INSERT FR PAGE NUMBER]; 10/23/2024.
| * * * * * *
| Haris M. Fazal a.k.a. the following one alias: —Chaudhary Haris. Suite No. 2, 4th Fl., Imtiaz Center, Main Market Gulberg, Lahore, Pakistan. | For all items subject to the EAR. (See § 744.11 of the EAR) | Presumption of denial | 89 FR [INSERT FR PAGE NUMBER]; 10/23/2024.
| * * * * * *
| Mansoor Ahmed Malik, 78-A, The Mall, Saddar, Punjab, Rawalpindi, Pakistan. | For all items subject to the EAR. (See § 744.11 of the EAR) | Presumption of denial | 89 FR [INSERT FR PAGE NUMBER]; 10/23/2024.
| * * * * * *
| Metal Paint Products (Pvt) Ltd, a.k.a., the following two aliases: —ERDC Metal Paint Products (Pvt) Ltd; and —MPPL. | For all items subject to the EAR. (See § 744.11 of the EAR) | Presumption of denial | 89 FR [INSERT FR PAGE NUMBER]; 10/23/2024.
| No. 158, Street 9, I-10/3, Islamabad, Pakistan.
| * * * * * *
| Innovative Equipment (Private) Limited, a.k.a., the following one alias: —Innovative Equipment. No. 5, Tulsa Road, Lalazar, Rawalpindi, Pakistan. | For all items subject to the EAR. (See § 744.11 of the EAR) | Presumption of denial | 89 FR [INSERT FR PAGE NUMBER]; 10/23/2024.
| * * * * * *
| Konsult Tek (Pvt) Ltd, a.k.a., the following one alias: —Konsulttek. No. 33, Second Floor, Rose-1 Plaza, I-8 Markaz, Islamabad, Pakistan. | For all items subject to the EAR. (See § 744.11 of the EAR) | Presumption of denial | 89 FR [INSERT FR PAGE NUMBER]; 10/23/2024.
| * * * * * *
| Marriala Consultants, 37-R, St-1, Phase-2, DHA, Lahore-54792, Punjab, Pakistan; and Main Bedian Rd, Ahmed Colony, Near Heir, Lahore-54792, Punjab, Pakistan; and 47-G, Phase-1 Commercial Area, DHA, Lahore-54792, Pakistan. | For all items subject to the EAR. (See § 744.11 of the EAR) | Presumption of denial | 89 FR [INSERT FR PAGE NUMBER]; 10/23/2024.
| * * * * * *
| Rehan Feroze, Suite No. 28, Al-Behbood Plaza, The Mall, Wah Cantt, Wah, Punjab, Pakistan. | For all items subject to the EAR. (See § 744.11 of the EAR) | Presumption of denial | 89 FR [INSERT FR PAGE NUMBER]; 10/23/2024.
| * * * * * *
| Rockside Enterprise, 10th Floor, Emerald Tower, Main Clifton Road, Karachi 75600, Pakistan; and Street 17 Karachi, Sindh Pakistan. | For all items subject to the EAR. (See § 744.11 of the EAR) | Presumption of denial | 89 FR [INSERT FR PAGE NUMBER]; 10/23/2024.
| * * * * * *
| Technologic Enterprises, B-20 Ramzan Plaza, Bank Road, Saddar, Rawalpindi, Punjab, Pakistan; and 17-B Ramzan Bank Road NTN#2567865-5, Rawalpindi, Pakistan; and 257 Street 6, Ali Block H-13/3, Islamabad, Pakistan. | For all items subject to the EAR. (See § 744.11 of the EAR) | Presumption of denial | 89 FR [INSERT FR PAGE NUMBER]; 10/23/2024.
| * * * * * *
| United Institute of Technical Professional Education, 78-A, The Mall, Saddar, Punjab, Rawalpindi, Pakistan. | For all items subject to the EAR. (See § 744.11 of the EAR) | Presumption of denial | 89 FR [INSERT FR PAGE NUMBER]; 10/23/2024.
| * * * * * *
| Uzman Feroze, B-20 Ramzan Plaza, Bank Road, Saddar, Rawalpindi, Pakistan. | For all items subject to the EAR. (See § 744.11 of the EAR) | Presumption of denial | 89 FR [INSERT FR PAGE NUMBER]; 10/23/2024.
| * * * * * *
| Zaheer & Sons, a.k.a., the following one alias: —Zaheer Sons. Suite 2, 3rd Floor, Nadir House, I.I. Chundrigar Road, Karachi, Pakistan. | For all items subject to the EAR. (See § 744.11 of the EAR) | Presumption of denial | 89 FR [INSERT FR PAGE NUMBER]; 10/23/2024.
| * * * * * *
UNITED ARAB EMIRATES | * * * * * *
| Ahmed Abdellatif, T5-055, SAIF Zone, Sharjah, United Arab Emirates; and SAIF office, T5-055, Sharjah, 513756, United Arab Emirates; and SAIF Executive Office, P-8-03-01, Sharjah, 12702PA 121702, United Arab Emirates; and Shariah, SAIF Office P8-03-01, P.O. Box 513756, United Arab Emirates. | For all items subject to the EAR. (See § 744.11 of the EAR) | Presumption of denial | 89 FR [INSERT FR PAGE NUMBER]; 10/23/2024.
| * * * * * *
| Ayman Elgindy, T5-055, SAIF Zone, Sharjah, United Arab Emirates; and SAIF office, T5-055, Sharjah, 513756, United Arab Emirates; and SAIF Executive Office P-8-03-01, Sharjah, 12702PA 121702, United Arab Emirates; and Shariah, SAIF Office P8-03-01 P.O. Box 513756, United Arab Emirates. | For all items subject to the EAR. (See § 744.11 of the EAR) | Presumption of denial | 89 FR [INSERT FR PAGE NUMBER]; 10/23/2024.
| * * * * * *
| Steel Design FZE, a.k.a., the following two aliases: —TRME; and —Turbo Resources. T5-055, SAIF Zone, Sharjah, United Arab Emirates; and SAIF office, T5-055, Sharjah, 513756, United Arab Emirates; and SAIF Executive Office, P-8-03-01, Sharjah, 12702PA 121702, United Arab Emirates; and Shariah, SAIF Office P8-03-01, P.O. Box 513756, United Arab Emirates; and SAIF Office P8-03-01, P.O. 513756, Sharjah, United Arab Emirates. | For all items subject to the EAR. (See § 744.11 of the EAR) | Presumption of denial | 89 FR [INSERT FR PAGE NUMBER]; 10/23/2024.
| * * * * * *
* * * * * * *

* * * * *

Matthew S. Borman,
Deputy Assistant Secretary for Strategic Trade and Technology Security.

[FR Doc. 2024-24562 Filed 10-21-24; 11:15 am]

BILLING CODE 3510-33-P